DEPARTMENT OF COMMERCE

International Trade Administration

[A-412-820; A-421-808; A-428-828]

Notice of Final Determinations of Sales at Not Less Than Fair Value: Low Enriched Uranium From the United Kingdom, Germany and the Netherlands

AGENCY: Import Administration, International Trade Administration, Department of Commerce.

EFFECTIVE DATE: December 21, 2001.

ACTION: Notice of final determinations of sales at not less than fair value.

FOR FURTHER INFORMATION CONTACT: Frank Thomson or James Terpstra, Office of AD/CVD Enforcement VI, Import Administration, International Trade Administration, U.S. Department of Commerce, 14th Street and Constitution Avenue, NW., Washington, DC 20230; telephone: (202) 482-4793 or (202) 482-3965, respectively.

SUPPLEMENTARY INFORMATION:

The Applicable Statute

Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (April 2000).

Final Determination

We determine that low-enriched uranium (LEU) from the United Kingdom, Germany and the Netherlands is not being sold, or is not likely to be sold, in the United States at less than fair value (LTFV), as provided in section 735 of the Act.

Case History

The preliminary determinations in these investigations was published on July 13, 2001. See Notice of Preliminary Determination of Sales at Less Than Fair Value: Low Enriched Uranium From the United Kingdom; Preliminary Determinations of Sales at Not Less Than Fair Value: Low Enriched Uranium From Germany and the Netherlands; and Postponement of Final Determinations, 66 FR 36748 (July 13, 2001) (Preliminary Determinations). The petitioners ¹ and the respondents, Urenco Ltd., Urenco (Capenhurst) Ltd., Urenco Nederland BV, and Urenco Deutschland GmbH (collectively, Urenco or the respondents), filed case briefs on antidumping methodological issues on October 12, 2001, and rebuttal briefs on October 19, 2001. A public hearing on the antidumping methodological issues was held on October 23, 2001.

¹ The petitioners in these investigations are USEC, Inc. and its wholly-owned subsidiary, United States Enrichment Corporation (collectively USEC), and the Paper, Allied-Industrial, Chemical and Energy Workers International Union, AFL-CIO, CLC, Local 5-550 and Local 5-689 (collectively PACE).

On October 22 and 23, 2001, the petitioners, the Ad Hoc Utilities Group,² and respondents filed briefs on common scope issues in the antidumping and countervailing duty investigations of LEU from France, Germany, the Netherlands and the United Kingdom. Rebuttal briefs on these common scope issues were filed on October 29, 2001, and a public hearing on the common scope issues was held on October 31, 2001.

² In accordance with section 777(h) of the Act the AdHoc Utilities Group, whose members include: Arizona Public Service Co., Carolina Power & Light Co., Dominion Generation, Duke Energy Corp., DTE Energy, Entergy Services, Inc., Exelon Corporation, First Energy Nuclear Operating Co., Florida Power Corp., Florida Power and Light Co., Nebraska Public Power District, Nuclear Management Co. LLC (on behalf of certain member companies), PPL Susquehanna LLC, PSEG Nuclear LLC, South Texas Project, Southern California Edison, Southern Nuclear Operating Co., Union Electric Company, and Wolf Creek Nuclear Operating Corp., submitted comments as industrial users of subject merchandise.

In response to a September 28, 2001 submission by the European Commission to Mr. Grant Aldonas, Under Secretary for International Trade, regarding the antidumping (AD) and countervailing duty (CVD) investigations of LEU from France, Germany, the Netherlands and the United Kingdom, and Mr. Aldonas' November 7, 2001 reply to this letter and the November 22, 2001 submission from the European Commission, the petitioners, the Ad Hoc Utilities Group, and respondents filed briefs that addressed the content of this correspondence.

These final determinations were originally due on November 26, 2001. We subsequently tolled the final determination deadline in these investigations until December 13, 2001, to accommodate certain delayed verifications and a briefing and hearing schedule that were delayed because of the events of September 11, 2001.

Amended Scope of Investigation

For purposes of these investigations, the product covered is all low enriched uranium (LEU). LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of these investigations. Specifically, these investigations does not cover enriched uranium hexafluoride with a U²³⁵ assay of 20 percent or greater, also known as highly enriched uranium. In addition, fabricated LEU is not covered by the scope of these investigations. For purposes of these investigations, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of these investigations.

Also excluded from these investigations is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end-user.

The merchandise subject to these investigations is classified in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Scope Clarification

For further details, see Comment 1 of the “Issues and Decision Memorandum for the Antidumping Duty Investigation of Low Enriched Uranium from Germany, Netherlands and the United Kingdom” (Decision Memorandum) from Bernard T. Carreau, Deputy Assistant Secretary for Import Administration, to Faryar Shirzad, Assistant Secretary for Import Administration, dated concurrently with this notice.

Goods Versus Services

Parties in all eight concurrent investigations of this product have submitted comments on this issue. For a full discussion see Notice of Final Determination of Sales at Less Than Fair Value: Low Enriched Uranium from France that is published concurrently with this notice.

Period of Investigation

The period of investigation (POI) is October 1, 1999, through September 30, 2000. This period corresponds to the four most recent fiscal quarters prior to the month of the filing of the petition (i.e., December 2000).

Verification

As provided in section 782(i) of the Act, we conducted verification of the sales and cost information submitted by Urenco from July 16 through July 20, 2001, in the Netherlands; July 23 through July 30, 2001, in Germany; July 30 through August 10, 2001, in the United Kingdom, and August 22, 2001, in the United States. We used standard verification procedures including examination of relevant accounting and production records, and original source documents provided by the respondent.

Analysis of Comments Received

All issues raised in the case and rebuttal briefs by parties to these antidumping proceedings are listed in the Appendix to this notice and addressed in the Decision Memorandum for these investigations, which is hereby adopted by this notice. The Decision Memorandum for these cases is on file in room B-099 of the main Department of Commerce building. In addition, a complete version of the Decision Memorandum can be accessed directly on the World Wide Web at http://ia.ita.doc.gov/frn/summary/list.htm. The paper and electronic versions of the Decision Memorandum are identical in content.

Changes Since the Preliminary Determinations

Based on our findings at verification and analysis of comments received, we have made adjustments to the calculation methodology in calculating the final dumping margins in these proceedings. These adjustments are discussed in detail in the Decision Memorandum. For the final determinations, we made the following revisions as detailed in (1) Memorandum from Ernest Gziryan to Neal Halper (December 13, 2001), and (2) Final Calculation Memo, both of which are on file in the Central Records Unit, room B-099 of the Main Department of Commerce Building.

Common

In deriving the net U.S. price and constructed value, we made the following changes:

1. We revised the feed price based on our verification findings;

2. We did not deduct container rental expenses or feed material transportation costs from U.S. price;

3. We adjusted CV to account for double-counting of movement charges;

4. We made no adjustment for credit expenses;

5. We eliminated double-counting of a depreciation adjustment in calculating the G&A and interest expense.

Urenco (Capenhurst) Limited (UCL)

1. We adjusted Urenco's reported G&A expense rate by calculating a separate G&A expense rate for each Urenco company. We calculated UCL's G&A expense rate by combining a Urenco Group G&A expense rate with the UCL company-specific G&A rate. We included certain non-operating expenses which relate to the general operations of the company in the calculation of UCL's G&A expense rate.

2. We increased UCL's depreciation expense associated with fixed assets purchased from the Urenco Group companies to reflect the market value of these assets.

3. We recalculated Urenco's financial expense rate by excluding the adjusted G&A expenses from the denominator.

4. We adjusted UCL's reported cost to include the amount of centrifuge losses attributable to the POI.

Urenco Nederland B.V.”s (UNL)

1. We adjusted Urenco's reported G&A expense rate by calculating a separate G&A expense rate for each Urenco company. We calculated UNL's G&A expense rate by combining a Urenco Group G&A expense rate with the UNL company-specific G&A rate.

2. We increased UNL's depreciation expense associated with fixed assets purchased from the Urenco Group companies to reflect the market value of these assets.

3. We recalculated Urenco's financial expense rate by excluding the adjusted G&A expenses from the denominator.

4. We adjusted UNL's tails provision to reflect the market value of the tails disposal services provided by an affiliated company.

Urenco Deutschland GmbH's (UD)

1. We adjusted Urenco's reported G&A expense rate by calculating a separate G&A expense rate for each Urenco company. We calculated UD's G&A expense rate by combining a Urenco Group G&A expense rate with the UD company-specific G&A rate.

2. We increased UD's depreciation expense associated with fixed assets purchased from the Urenco Group companies to reflect the market value of these assets.

3. We recalculated Urenco's financial expense rate by excluding the adjusted G&A expenses from the denominator.

4. We adjusted UD's reported costs to include income and expense items recorded in UD's financial statements prepared in accordance with German generally accepted accounting principles.

5. We increased UD's cost of production by the amount of the certain gain used by UD to offset the reported cost.

Final Determinations of Investigations

We determine that the following weighted-average percentage dumping margins for the United Kingdom, Germany, and the Netherlands are as follows:

Manufacturer/exporter | Margin (percent)
Urenco Deutschland GmbH | 0.00
Urenco Netherlands B.V. | 0.00
Urenco (Capenhurst) Ltd. | (de minimis)

Termination of Suspension of Liquidation

Pursuant to section 735(c)(2) of the Act, we are directing the U.S. Customs Service to terminate suspension of liquidation, with respect to these antidumping investigations, and release any bond or other security and refund any cash deposit.

International Trade Commission Notification

In accordance with section 735(d) of the Act, we have notified the International Trade Commission of our determinations. These determinations are published pursuant to sections 735(d) and 777(i)(1) of the Act.

Dated: December 13, 2001.
Faryar Shirzad,
Assistant Secretary for Import Administration.

Appendix—Issues in Decision Memorandum

Scope Issue

1. Scope clarification

Common Sales Issues

2. Whether Urenco failed to disclose its affiliation with U.S. customers who participate in a joint venture

3. Whether Urenco failed to disclose sales activity related to an affiliated U.K. reseller—Uranium Asset Management Ltd. (“UAM”)

4. Whether Urenco never fully disclosed the role of its affiliated U.S. fuel fabricator—Westinghouse

5. Whether Urenco receives transportation services from its affiliated transporters at market rates and whether facts available should be applied

6. Whether the Department should use adverse facts available to calculate Urenco's less than fair value (“LTFV”) margins

7. Whether Urenco's U.S. sales should be treated as export price (“EP”) or constructed export price (“CEP”) Sales

8. Whether the indirect selling expense (“ISE”) ratio requires a revision

9. Whether feed material transportation costs, cylinder rental expenses, and credit expenses should be deducted from Urenco's U.S. sales price

10. Whether feed material transportation cost is double counted

11. Treatment of “blended price” contracts

12. Whether to apply “discounts” provided on separative work unites (“SWU”) sold prior to the period of investigation (“POI”)

13. Whether to utilize only completed deliveries or all sales made during the POI

Common Cost Issues

14. Affiliated Inputs

14a. Assets purchased from affiliated companies

15. Cost of Certain Product

16. Tails disposal costs

17. Futures Hedging Contracts

18. Gain to offset cost

19. General and administrative (“G&A”) expenses

Urenco Deutschland Cost Issues (“UD”)

20. Affiliated electricity purchases

21. Home country Generally Accepted Accounting Principles (“GAAP”)

Urenco Nederland Cost Issue (“UNL”)

22. UNL unreconciled costs

Urenco Capenhurst Ltd. Cost Issue (“UCL”)

23. Centrifuge failure

[FR Doc. 01-31513 Filed 12-20-01; 8:45 am]

BILLING CODE 3510-DS-P